DEPARTMENT OF AGRICULTURE

Forest Service

Meeting of the Land Between The Lakes Advisory Board

AGENCY: Forest Service, USDA.

ACTION: Notice of meeting.

SUMMARY: The Land Between The Lakes Advisory Board will hold a meeting on Thursday, April 28, 2005. Notice of this meeting is given under the Federal Advisory Committee Act, 5 U.S.C. App.2.

DATES: The meeting will be held on Thursday, April 28, 2005, 8:30 a.m. to 3:30 p.m., c.s.t.

ADDRESSES: The meeting will be held at Kentucky Dam Village State Resort Park, Gilbertsville, KY, and will be open to the public.

For further information contact: Sharon Byers, Advisory Board Liaison, Land Between The Lakes, 100 Van Morgan Drive, Golden Pond, Kentucky 42211, (270) 924-2002.

SUPPLEMENTARY INFORMATION: The meeting agenda includes the following:

(1) Welcome/Introductions/Agenda.

(2) Advisory Board By-Laws and Charter.

(3) Membership Orientation/Lessons Learned.

(4) Land and Resource Management Plan Update.

(5) Nature Watch.

(6) Board Discussion of Comments Received.

(7) LBL Updates.

The meeting is open to the public. Written comments are invited and may be mailed to: William P. Lisowsky, Area Supervisor, Land Between The Lakes, 100 Van Morgan Drive, Golden Pond, Kentucky 42211. Written comments must be received at Land Between The Lakes by April 20, 2005, in order for copies to be provided to the members at the meeting. Board members will review written comments received, and at their request, oral clarification may be requested at a future meeting.

William P. Lisowsky,
Area Supervisor, Land Between The Lakes.

[FR Doc. 05-6784 Filed 4-5-05; 8:45 am]

BILLING CODE 3410-11-P